FEDERAL COMMUNICATIONS COMMISSION

47 CFR Part 54

[WC Docket Nos. 10-90, 14-58, 14-259; Report No. 3050]

Petitions for Reconsideration and Clarification of Action in Rulemaking Proceeding

AGENCY: Federal Communications Commission.

ACTION: Petitions for reconsideration and clarification.

SUMMARY: Petitions for Reconsideration and Clarification (Petitions) have been filed in the Commission's rulemaking proceeding by Joseph DuFresne, on behalf of Broad Valley Micro Fiber Networks, Inc.; Stephen L. Goodman, on behalf of ADTRAN, Inc.; Matthew Crocker, on behalf of Crocker Telecommunications, LLC; Tamara L. Preiss, on behalf of Verizon; Wayne Hawley, on behalf of Southern Tier Wireless, Inc.; Martha A. Duggan and Brett A. Kilbourne, on behalf of National Rural Electric Cooperative Association and Utilities Technology Council; and John P. Janka, on behalf of ViaSat, Inc.

DATES: Oppositions to the Petition must be filed on or before September 2, 2016. Replies to an opposition must be filed on or before September 12, 2016.

ADDRESSES: Federal Communications Commission, 445 12th Street SW., Washington, DC 20554.

FOR FURTHER INFORMATION CONTACT: Heidi Lankau, Wireline Competition Bureau, (202) 418-7400, email: Heidi.Lankau@fcc.gov.

SUPPLEMENTARY INFORMATION: This is a summary of the Commission's document, Report No. 3050, released August 12, 2016. The full text of the Petitions is available for viewing and copying at the FCC Reference Information Center, 445 12th Street SW., Room CY-A257, Washington, DC 20554 or may be accessed online via the Commission's Electronic Comment Filing System at http://apps.fcc.gov/ecfs/. The Commission will not send a copy of the Notice pursuant to the Congressional Review Act, 5 U.S.C. 801(a)(1)(A), because the Notice does not have an impact on any rules of particular applicability.

Subject: Connect America Fund; ETC Annual Reports and Certifications; Rural Broadband Experiments, FCC 16-64, published at 81 FR 44413, July 7, 2016, in WC Docket Nos. 10-90, 14-58, and 14-259. The Notice is being published pursuant to 47 CFR 1.429(e). See also 47 CFR 1.4(b)(1) and 1.429(f), (g).

Number of Petitions Filed: 7.

Federal Communications Commission.
Marlene H. Dortch,
Secretary.

[FR Doc. 2016-19743 Filed 8-17-16; 8:45 am]

BILLING CODE 6712-01-P